DEPARTMENT OF HEALTH AND HUMAN SERVICES

Administration for Children and Families

Proposed Continued Information Collection Activity; Evaluation of the Child Welfare Capacity Building Collaborative (OMB Number: 0970-0484)

AGENCY: Children's Bureau, Administration for Children and Families; HHS.

ACTION: Request for public comment.

SUMMARY: The Administration for Children and Families (ACF) is requesting a three-year extension of the previously approved forms that include satisfaction surveys; a leadership interview protocol; a web-based collaboration survey; assessment tools; and service-specific feedback forms (OMB #0970-0484, expiration 8/31/2019). There are no changes to the forms.

DATES: Comments due within 60 days of publication. In compliance with the requirements of Section 3506(c)(2)(A) of the Paperwork Reduction Act of 1995, the Administration for Children and Families is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: The Evaluation of the Child Welfare Capacity Building Collaborative is sponsored by the Children's Bureau, Administration for Children and Families of the U.S. Department of Health and Human Services. The Capacity Building Collaborative includes three centers (Center for States, Center for Tribes, Center for Courts) funded by the Children's Bureau to provide national child welfare expertise and evidence-informed training and technical assistance services to state, tribal and territorial public child welfare agencies and Court Improvement Programs (CIPs). The Centers offer a wide array of services including, but not limited to: Web-based content and resources, product development and dissemination, self-directed and group-based training, virtual learning and peer networking events, and tailored consultation and coaching. During the project period, Center services are evaluated by both Center-specific evaluations and a Cross-Center Evaluation. The Center-specific evaluations are designed to collect data on Center-specific processes and outcomes, which are used to support service delivery and continuous quality improvement. The Cross-Center Evaluation is designed to respond to a set of cross-cutting evaluation questions posed by the Children's Bureau. The Cross-Center Evaluation examines: How and to what extent key partners across and within Centers collaborate; whether Center capacity building service interventions are evaluable; the degree to which Centers follow common protocols; what service interventions are delivered and in what services do jurisdictions participate; how satisfied recipients are with services; what outcomes are achieved in jurisdictions receiving Center services and under what conditions are services effective; and what are the costs of services.

The Cross-Center Evaluation uses a longitudinal, mixed methods approach to evaluate Center services as they develop and mature over the course of the study. Multiple data collection strategies are used to efficiently capture quantitative and qualitative data to enable analyses that address each evaluation question. Cross-Center Evaluation data sources for this effort include (1) satisfaction surveys to assess recipient satisfaction with services, such as the Learning Experiences Satisfaction Survey; (2) a leadership interview used to assess perceptions of state child welfare directors, tribal child welfare directors, and CIP directors; and (3) a web-based collaboration survey used to assess perceptions of collaboration within and between the capacity building centers. Center-specific data sources for this effort include (1) assessment tools such as the Center for Tribes Needs and Fit Exploration Tools; and (2) service-specific feedback forms, such as the Center for States Intensive Projects instrument and the Center for Courts CQI Workshops instrument.

Respondents: Respondents of data collection instruments include (1) child welfare and judicial professionals who use the Collaborative's products and online courses, that participate in webinars, virtual or in-person trainings, or peer events, and that receive brief or intensive tailored services from the Centers; (2) all State child welfare directors, and Tribal child welfare directors, and CIP coordinators that receive services from the Centers; and (3) directors and staff of the three Capacity Building Centers.

Annual Burden Estimates
Instrument | Total number of respondents | Annual number of respondents | Number of responses per respondent | Average burden hours per response | Total annual burden hours
Web Pages and Products Satisfaction Survey | 6,240 | 2,080 | 1 | .08 | 166
Learning Experiences Satisfaction Survey (single) ¹ | 2,000 | 666 | 1 | .33 | 220
Learning Experiences Satisfaction Survey (intensive) ² | 3,600 | 1200 | 1 | .08 | 96
Webinars, Events, and In-Person Meetings Satisfaction Survey | 22,008 | 7,336 | 1 | .08 | 587
Center for States Information and Referral Survey | 48 | 16 | 1 | .05 | 1
Center for States Intensive Projects Survey | 1,320 | 440 | 2 | .33 | 290
Center for States Constituency Groups Surveys | 1,600 | 533 | 2 | .33 | 352
Center for States Brief Tailored Services Survey | 500 | 166 | 1 | .33 | 55
Center for Tribes Contact Form | 200 | 22 | 1 | .05 | 1
Center for Tribes Demographic Survey | 80 | 26 | 1 | 1.75 | 46
Center for Tribes Needs and Fit Exploration Tool Phase 1 | 120 | 40 | 1 | 1.5 | 60
Center for Tribes Needs and Fit Exploration Tool Phase 2 | 100 | 33 | 1 | 3.0 | 99
CIP Annual Meeting Survey | 800 | 266 | 1 | .13 | 35
Center for Courts CQI Workshops Survey | 192 | 63 | 1 | .17 | 11
Assessment and Capacity Building Work Plan Satisfaction Survey | 1,800 | 600 | 1 | .066 | 40
Leadership Interview—States and Territories | 52 | 17 | 2 | 1 | 34
Leadership Interview—CIPs | 52 | 17 | 2 | 1 | 34
Leadership Interview—Tribes | 32 | 10 | 2 | 1.25 | 25
Leadership Interview Part II—Tribes | 32 | 10 | 2 | .67 | 13
Annual Collaboration Survey | 920 | 306 | 1 | .36 | 110
Total |  |  |  |  | 2,275
¹ For Learning Experiences that consist of a single event (e.g., on-line session or in-person training).
² For more intensive Learning Experiences that require administration of multiple surveys over a series of events, modules, or units.

Estimated Total Annual Burden Hours: 2,275.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 5106.

Mary B. Jones,
ACF/OPRE Certifying Officer.

[FR Doc. 2019-08247 Filed 4-23-19; 8:45 am]

BILLING CODE 4184-01-P